DEPARTMENT OF COMMERCE

International Trade Administration

[A-583-853]

Certain Crystalline Silicon Photovoltaic Products From Taiwan: Notice of Final Results of Antidumping Duty Changed Circumstances Review

AGENCY: Enforcement and Compliance, International Trade Administration, Department of Commerce.

SUMMARY: On June 10, 2019, the Department of Commerce (Commerce) published the preliminary results of the changed circumstances review of the antidumping duty order on certain crystalline silicon photovoltaic products (solar products) from Taiwan. For these final results, Commerce continues to find that United Renewable Energy Co., Ltd. (URE) is the successor-in-interest to Gintech Energy Corporation (Gintech), Neo Solar Power Corporation (Neo Solar), and Solartech Energy Corporation (Solartech).

DATES: Applicable August 2, 2019.

FOR FURTHER INFORMATION CONTACT: Robert Galantucci, AD/CVD Operations, Office IV, Enforcement and Compliance, International Trade Administration, U.S. Department of Commerce, 1401 Constitution Avenue NW, Washington, DC 20230; telephone: (202) 482-2923.

SUPPLEMENTARY INFORMATION:

Background

On February 18, 2015, Commerce published in the Federal Register an antidumping duty order on solar products from Taiwan.¹ On February 1, 2019, Commerce received a request on behalf of URE for an expedited changed circumstances review (CCR) to determine whether URE is the successor-in-interest to Gintech, Neo Solar, and Solartech.² On March 26, 2019, we initiated a CCR and published a notice in the Federal Register.³

¹ See Certain Crystalline Silicon Photovoltaic Products from Taiwan: Antidumping Duty Order, 80 FR 8596 (February 18, 2015) (Order).

² See URE's Letter, “Certain Crystalline Silicon Photovoltaic Products from Taiwan: Request for Changed Circumstances Review and Successor-in-Interest Determination,” dated February 1, 2019.

³ See Certain Crystalline Silicon Photovoltaic Products from Taiwan: Initiation of Antidumping Duty Changed Circumstances Review, 84 FR 11284 (March 26, 2019).

On June 10, 2019, we published the Preliminary Results of this review, in which we determined that URE is the successor-in-interest to Gintech, Neo Solar, and Solartech.⁴ In the Preliminary Results, we provided all interested parties with an opportunity to comment and request a public hearing regarding our preliminary finding.⁵ We received no comments or requests for a public hearing from interested parties.

⁴ See Certain Crystalline Silicon Photovoltaic Products from Taiwan: Notice of Preliminary Results of Antidumping Duty Changed Circumstances Review, 84 FR 26816 (June 10, 2019) (Preliminary Results).

⁵ Id. at 26817.

Scope of the Order

The merchandise covered by the Order is crystalline silicon photovoltaic cells, and modules, laminates and/or panels consisting of crystalline silicon photovoltaic cells, whether or not partially or fully assembled into other products, including building integrated materials.

Merchandise covered by the order is currently classified in the Harmonized Tariff Schedule of the United States (HTSUS) under subheadings 8501.61.0000, 8507.20.8030, 8507.20.8040, 8507.20.8060, 8507.20.8090, 8541.40.6020, 8541.40.6030, and 8501.31.8000. These HTSUS subheadings are provided for convenience and customs purposes; the written description of the scope of the order is dispositive. For a full description of the scope of the order, please refer to the Preliminary Decision Memorandum.⁶

⁶ See Memorandum, “Decision Memorandum for the Preliminary Results of the Antidumping Duty Changed Circumstances Review: Certain Crystalline Silicon Photovoltaic Products from Taiwan,” dated June 4, 2019 (Preliminary Decision Memorandum).

Final Results of Changed Circumstances Review

For the reasons stated in the Preliminary Results, and because we received no comments from interested parties to the contrary, Commerce continues to find that URE is the successor-in-interest to Gintech, Neo Solar, and Solartech.⁷ As a result of this determination and consistent with established practice, we find that URE should receive the cash deposit rate previously assigned to Gintech, Neo Solar, and Solartech in the most recently completed review of the Order. The cash deposit rate assigned to Gintech, Neo Solar, and Solartech in the most recently completed review was 1.33 percent.⁸ Consequently, Commerce will instruct U.S. Customs and Border Protection to suspend liquidation of all shipments of subject merchandise produced or exported by URE and entered, or withdrawn from warehouse, for consumption on or after the publication date of this notice in the Federal Register at 1.33 percent, which is the current antidumping duty cash deposit rate for Gintech, Neo Solar, and Solartech. This cash deposit requirement shall remain in effect until further notice.

⁷ See Preliminary Results, 84 FR at 26817.

⁸ See Certain Crystalline Silicon Photovoltaic Products from Taiwan: Final Results of Antidumping Duty Administrative Review; 2016-2017, 83 FR 30401, 30402 (June 28, 2018).

Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing this determination and publishing these final results and notice in accordance with sections 751(b)(1) and 777(i)(1) and (2) of the Tariff Act of 1930, as amended, and 19 CFR 351.216 and 351.221(c)(3).

Dated: July 19, 2019.
Jeffrey I. Kessler,
Assistant Secretary for Enforcement and Compliance.

[FR Doc. 2019-16551 Filed 8-1-19; 8:45 am]

BILLING CODE 3510-DS-P